DEPARTMENT OF COMMERCE

International Trade Administration

[A-570-124, C-570-125]

Certain Vertical Shaft Engines Between 99cc and Up To 225cc, and Parts Thereof, From the People's Republic of China: Affirmative Preliminary Determination of Circumvention of the Antidumping and Countervailing Duty Orders—Dual-Piston Engines; Rescission in Part

AGENCY: Enforcement and Compliance, International Trade Administration, Department of Commerce.

SUMMARY: The U.S. Department of Commerce (Commerce) preliminarily determines that imports of dual-piston engines with a single, common combustion chamber, of the type designed by FNA Group, Inc. (FNA), produced in and exported from the People's Republic of China (China) constitute later-developed merchandise that circumvent the antidumping duty (AD) and countervailing duty (CVD) orders on certain vertical shaft engines between 99cc and up to 225cc, and parts thereof (small vertical engines), from China. Commerce also preliminarily determines that this affirmative circumvention finding should be applied on a country-wide basis.

DATES: Applicable September 29, 2022.

FOR FURTHER INFORMATION CONTACT: Paul Gill, AD/CVD Operations, Office II, Enforcement and Compliance, International Trade Administration, U.S. Department of Commerce, 1401 Constitution Avenue NW, Washington, DC 20230; telephone: (202) 482-5673.

SUPPLEMENTARY INFORMATION:

Background

On May 4, 2021, Commerce published AD and CVD orders on small vertical engines from China.¹ On April 25, 2022, in response to a request from Briggs & Stratton, LLC (the petitioner), Commerce initiated a circumvention inquiry to determine whether dual-piston engines with a single, common combustion chamber, of the type designed by FNA, involve a “minor alteration” to subject merchandise or are “later-developed merchandise,” such that they should be considered subject to the AD and CVD orders on small vertical engines from China.² The petitioner alleges that such merchandise, produced in, and exported from, China, and imported into the United States may circumvent the Orders. For a complete description of the events that followed the initiation of this inquiry, see the Preliminary Decision Memorandum.³

¹ See Certain Vertical Shaft Engines Between 99cc and Up To 225cc, and Parts Thereof from the People's Republic of China: Antidumping and Countervailing Duty Orders, 86 FR 23675 (May 4, 2021) (Orders).

² See Certain Vertical Shaft Engines Between 99cc and Up To 225cc, and Parts Thereof, from the People's Republic of China: Initiation of Circumvention Inquiry of the Antidumping and Countervailing Duty Orders—Dual-Piston Engines, 87 FR 24280 (April 25, 2022) (Initiation Notice); see also Petitioner's Letter, “Request for Anti-Circumvention Inquiry Pursuant to section 781(c) and/or 781(d) of the Tariff Act of 1930,” dated March 4, 2022.

³ See Memorandum, “Certain Vertical Shaft Engines Between 99cc and Up To 225cc from the People's Republic of China: Preliminary Decision Memorandum for Circumvention Inquiry—Dual-Piston Engines,” dated concurrently with, and hereby adopted by, this notice (Preliminary Decision Memorandum).

Scope of the Orders

The products subject to the Orders are small vertical engines from China. For a complete description of the scope of the Orders, see the Preliminary Decision Memorandum.⁴

⁴ Id. at 2-3.

Merchandise Subject to the Circumvention Inquiry

The merchandise subject to this circumvention inquiry are dual-piston engines with a single, common combustion chamber, of the type designed by FNA, otherwise meeting the scope of the Orders. In the Initiation Notice, Commerce used the term “dual-piston engine” to refer to the engines subject to this inquiry, such as FNA's dual-piston engine. More specifically, the dual-piston engines subject to this circumvention inquiry have a common combustion chamber shared by two cylinders working in unison.⁵ For a complete description of the inquiry merchandise, see the Preliminary Decision Memorandum.

⁵ See Petitioner's Letter, “Request for Anti-Circumvention Inquiry Pursuant to Section 781(c) and/or Section 781(d) of the Tariff Act of 1930,” dated March 4, 2022, at 2-3.

Methodology

Commerce is conducting this circumvention inquiry pursuant to section 781(d) of the Tariff Act of 1930, as amended (the Act), and 19 CFR 351.226(k). For a complete description of the events that followed the initiation of this circumvention inquiry, see the Preliminary Decision Memorandum. A list of topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Affirmative Preliminary Determination of Circumvention

As detailed in the Preliminary Decision Memorandum, Commerce preliminarily determines that imports of dual-piston engines with a single, common combustion chamber, of the type designed by FNA, produced in and exported from China constitute later-developed merchandise that circumvent the Orders, pursuant to section 781(d) of the Act and 19 CFR 351.226(k). We also preliminarily determine that this affirmative circumvention finding should be applied on a country-wide basis.

Partial Rescission

Commerce initiated this inquiry pursuant to sections 781(c) and (d) of the Act.⁶ However, because we preliminarily determine that dual-piston engines with a single, common combustion chamber, of the type designed by FNA, are later-developed merchandise that are circumventing the Orders, pursuant to section 781(d) of the Act, Commerce is not evaluating whether the inquiry merchandise was also “altered in form or appearance in minor respects” in an attempt to circumvent the Orders, pursuant to 19 CFR 351.226(j) and section 781(c) of the Act. Therefore, we are rescinding the prong of this circumvention inquiry pertaining to section 781(c) of the Act.

⁶ See Initiation Notice, 87 FR at 24280-81.

Suspension of Liquidation

In accordance with 19 CFR 351.226(l)(2), we will direct U.S. Customs and Border Protection (CBP) to continue the suspension of liquidation of previously suspended entries and to suspend liquidation of all entries of dual-piston engines with a single, common combustion chamber, of the type designed by FNA, produced in and exported from China that are entered, or withdrawn from warehouse, for consumption on or after April 25, 2022 (i.e., the date of the publication of the Initiation Notice).⁷ Pursuant to 19 CFR 351.226(l)(2), we will also instruct CBP to require cash deposits of estimated ADs and CVDs equal to the cash deposit rates in effect for small vertical engines for each unliquidated entry of dual-piston engines with a single, common combustion chamber, of the type designed by FNA, produced in and exported from China that have been entered, or withdrawn from warehouse, for consumption on or after April 25, 2022.⁸ These suspension of liquidation instructions and cash deposit requirements will remain in effect until further notice.

⁷ Id.

⁸ See Orders.

Public Comments

Interested parties are invited to comment on this preliminary determination of circumvention and may submit case briefs or other written comments within 30 days of the date of publication of this notice.⁹ Rebuttal briefs, limited to issues raised in case briefs, may be submitted no later than seven days after the deadline for case briefs.¹⁰ Pursuant to 19 CFR 351.309(c)(2) and (d)(2), parties who submit case briefs or rebuttal briefs in this circumvention inquiry are encouraged to submit with each argument: (1) a statement of the issue; (2) a brief summary of the argument; and (3) a table of authorities.¹¹ Case and rebuttal briefs should be filed electronically via ACCESS.¹²

⁹ Commerce is exercising its discretion, under 19 CFR 351.309(c)(1)(ii), to alter the time limit for filing of case briefs.

¹⁰ Commerce is exercising its discretion, under 19 CFR 351.309(d)(1), to alter the time limit for filing of rebuttal briefs.

¹¹ See 19 CFR 351.309(c)(2) and (d)(2).

¹² See 19 CFR 351.303.

Pursuant to 19 CFR 351.310(c), interested parties who wish to request a hearing, limited to issues raised in the case and rebuttal briefs, must submit a written request to the Assistant Secretary for Enforcement and Compliance within 30 days after the date of publication of this notice. Requests should contain: (1) the party's name, address, and telephone number; (2) the number of participants; (3) whether any participant is a foreign national; and (4) a list of the issues to be discussed. Issues raised in the hearing will be limited to issues raised in the briefs. If a request for a hearing is made, parties will be notified of the date and time for the hearing at a later date.

All submissions must be filed electronically and received successfully in its entirety via ACCESS by 5:00 p.m. Eastern Time on the date that they are due. Note that Commerce has temporarily modified certain of its requirements for serving documents containing business proprietary information, until further notice.¹³

¹³ See Temporary Rule Modifying AD/CVD Service Requirements Due to COVID-19; Extension of Effective Period, 85 FR 41363 (July 10, 2020).

Notification to Interested Parties

This determination is published in accordance with section 781(d) of the Act and 19 CFR 351.226(f) and (k).

Dated: September 22, 2022.
Lisa W. Wang,
Assistant Secretary for Enforcement and Compliance.

Appendix—List of Topics Discussed in the Preliminary Decision Memorandum

I. Summary

II. Background

III. Scope of the Orders

IV. Merchandise Subject to the Circumvention Inquiry

V. Statutory and Regulatory Framework

VI. Comments and Analysis

VII. Country-Wide Circumvention Finding

VIII. Partial Recission

IX. Recommendation

[FR Doc. 2022-21127 Filed 9-28-22; 8:45 am]

BILLING CODE 3510-DS-P